POSTAL SERVICE

39 CFR Part 111

Intelligent Mail Package Barcode (IMpb) Implementation for Commercial Parcels

AGENCY: Postal Service ™.

ACTION: Final rule.

SUMMARY: The Postal Service is revising Mailing Standards of the United States Postal Service, Domestic Mail Manual (DMM®) throughout various sections to require the use of an Intelligent Mail unique tracking barcode on all commercial parcels, except Standard Mail® parcels, claiming presort or destination entry pricing; to encourage use of IMpb unique tracking barcodes by providing end-to-end tracking including confirmation of delivery on all commercial parcels except Standard Mail and Package Services parcels; and to require the use of an IMpb on parcels bearing PC Postage®.

DATES: Effective date: January 22, 2012. The Postal Service will initially implement the standards referenced in this final rule on January 22, 2012, and will provide an optional-use transitional period for specific requirements until July 2, 2012. The Postal Service finalizes its implementation effective January 7, 2013.

FOR FURTHER INFORMATION CONTACT: Juliaann Hess at 202-268-7663 or Kevin Gunther at 202-268-7208.

SUPPLEMENTARY INFORMATION: The Postal Service is enhancing its operational capability to track commercial parcels by scanning IMpbs and other extra services barcodes with automated processing equipment and Intelligent Mail scanning devices. Once all of the changes described in this final rule are fully implemented, tracking data, that includes acceptance, enroute, and delivery status data, will be available to commercial mailers who use extra services on their packages.

Mailers using IMpb will receive piece-level visibility throughout USPS® processing and delivery operations. New IMpb enhancements include:

• Incorporation of a routing code to facilitate the processing of packages on automated sorting equipment.

• Use of a channel-specific Application Identifier (AI) that associates the barcode to the payment method, supporting revenue assurance.

• A 3-digit service type code, which will identify the mail class and extra service combination and eliminate the need for multiple barcodes on a package.

• The use of either a 6-digit or 9-digit numeric Mailer ID (MID), to accommodate all mailers.

• Inclusion of specific “mail class only” service type codes that may be used for packages without extra services.

To promote the use of IMpb or other unique tracking barcodes, effective January 22, 2012 the Postal Service will provide end-to-end tracking, including confirmation of delivery, at no additional charge on all commercial parcels (except Standard Mail and Package Services parcels). Merchandise Return Service (MRS) parcels and Business Reply Mail® (BRM) parcels will also qualify for end-to-end tracking, including confirmation of delivery, at no extra charge.

Also effective January 22, 2012, the Postal Service will require the use of a unique tracking barcode on all commercial parcels, except Standard Mail parcels, claiming presort or destination entry pricing; and will require all parcels shipped using PC Postage systems to bear an IMpb and to use version 1.6 of the electronic shipping services manifest files. The PC Postage requirement does not extend to users of PC Postage stamp products. The Postal Service considers these postage imprints to be in the same category as the imprints generated by postage meter systems.

To allow commercial parcel and PC Postage mailers sufficient time to effect the necessary changes to their software and systems, the Postal Service will provide a transitional period, until July 2, 2012, during which the failure to comply with these new standards will not be penalized.

On January 7, 2013, the Postal Service finalizes the implementation of this final rule by requiring an Intelligent Mail package barcode (IMpb) for all commercial mailpieces that include a tracking or extra service barcode and on all parcels (except Standard Mail parcels) claiming presort or destination entry pricing. This January 7, 2013 IMpb requirement also applies to all domestic Express Mail® pieces, except those paying postage through an Express Mail corporate account (EMCA). In addition, the Postal Service will require the use of version 1.6 electronic shipping services manifest files and require that these files include each destination ZIP + 4® code, or each destination delivery address by January 7, 2013. This new file format will also require a new version of the customer extract file.

The Postal Service recognizes that some mailers may have difficulty preparing their systems and processes in time to meet January 22, 2012 implementation (required after July 2, 2012), and further recognizes that some mailers may be unable to meet the January 7, 2013 deadline for use of IMpb and the version 1.6 electronic manifest file. Therefore the Postal Service will provide limited exceptions for those mailers who may require additional time to finalize their transition to the use of unique tracking barcodes or IMpb. Mailers requiring an exception may direct their request to vice president, Product Information, USPS Headquarters, Room 3667, 475 L'Enfant Plaza, SW., Washington, DC 20260-5626.

The Postal Service will provide no charge end-to-end tracking, including confirmation of delivery, for all Parcel Select mailpieces (including the Parcel Select barcoded nonpresort category). Since all nondestination entry and nonpresorted Parcel Select mailpieces are currently required to bear barcodes, this Parcel Select category will also be required to bear a unique tracking barcode no later than July 2, 2012, and will be required to bear an IMpb and to use version 1.6 of the electronic shipping services manifest files no later than January 7, 2013.

To support future sorting efficiencies, the USPS strongly encourages mailers to place a ZIP+4 code or destination address in the electronic files for each mailpiece as soon as possible. Mailers using the IMpb are also encouraged to include the additional two-digit delivery point code in the electronic file.

This final rule also requires a postal routing code on all parcels and all Express Mail pieces (except for EMCA mailers), preferably as a concatenated IMpb or extra service barcode. When a concatenated IMpb or extra service barcode is not used, a separate postal routing barcode must be included in addition to the IMpb. Flat-shaped or letter-shaped Priority Mail® or Critical Mail™ pieces may use an Intelligent Mail barcode (IMb™) or POSTNET™ code for the Postal routing barcode. Otherwise, an IMb will not be permitted in lieu of the IMpb.

Mailers of commercial parcels, who claim presort or destination entry pricing, but who do not purchase a trackable extra service, or make use of the no-fee end-to-end tracking, must use a “mail-class only” IMpb service type code that represents the class or subclass of the mailpiece that is being shipped.

Service Banners

Beginning January 22, 2012, the Postal Service requires the use of new generic human-readable service banner text formats when printing an IMpb. Current standards require a different human-readable service banner text for each extra service selected by the mailer. The Postal Service will provide two generic text options for service banners, when used with an IMpb, for most of the extra services selected. Mailers must use a “USPS® Tracking #” human-readable service banner text above the barcode on packages not requiring a signature at delivery, and a “USPS Signature Tracking #” service banner text above the barcode on packages where a signature is required at delivery. These new service banner texts will not be used with Certified Mail®, Registered Mail™, Adult Signature service, Parcel Return Service, or Express Mail or Priority Mail Open and Distribute services. With these exceptions, mailers may also optionally use the new service banner texts in conjunction with all current USPS-approved extra service barcodes. These new texts will simplify IMpb use for mailers and will more accurately describe future processing and tracking capabilities inherent to the IMpb.

The Postal Service is also providing an exception process, for mailers of small First-Class Mail® and Standard Mail parcels lacking sufficient label space to apply an IMpb or extra service barcode meeting the ¾-inch height requirement, to submit barcodes of at least ½ inch in height for USPS testing and approval. These exceptions will be administered by the National Customer Service Center (NCSC), as part of the normal barcode approval process.

Background

On September 17, 2010, the Postal Service published an advance notice of proposed rulemaking in the Federal Register (75 FR 56922-56923), announcing plans to provide interim IMpb optional-use standards and to require IMpb use for all commercial mailers at a later date.

The IMpb optional-use standards were announced via Postal Bulletin 22297, dated November 4, 2010, incorporated into the DMM, and were available for mailer use beginning November 1, 2010.

On April 28, 2011, the Postal Service published a proposed rule in the Federal Register (75 FR 23749-23755) to provide its proposal for future IMpb implementation. The Postal Service received comments in response to this proposed rule, which are summarized later in this notice.

Descriptions of IMpb and Electronic Documentation

For the purposes of this final rule, the term “commercially shipped package” is generally used to describe all domestic mailpieces meeting parcel characteristics, all Express Mail and Priority Mail mailpieces, regardless of shape, including commercially shipped flat-rate items. It does not include EMCA pieces, Critical Mail pieces, some Priority Mail flat-size pieces prepared by high-volume mailers, or Package Service parcels mailed at USPS retail counters. The term “commercially shipped package” will also encompass Parcel Post® pieces, within the Package Services category, bearing a permit imprint.

Piece-level information will allow the Postal Service to improve its competitiveness within the commercial package shipping industry and to create a more comprehensive service performance measurement tool. Barcodes are not currently required on commercially shipped packages, except those entered under an Electronic Verification System (eVS®); and many barcodes now being used are unable to incorporate the data necessary to meet the future needs of the Postal Service. At present, commercially shipped packages can bear barcodes that are designed to provide delivery status information only, and do not always include a routing code (a barcode that represents the destination ZIP Code™). These barcodes allow limited integration of multiple extra services and have limited revenue protection capabilities, due to the absence of information associating the piece with its specific payment method.

The IMpb provides unique piece-level data to enable the Postal Service to increase efficiency, enhance package visibility and tracking capabilities, and provide a means to measure service performance. The IMpb is a width-modulated barcode containing up to 34 digits, which generally follows the specifications of the GS1-128 symbology. GS1-128 barcodes are a special type of Code 128 barcodes, which make use of Application Identifiers (AI) to define the encoded data and their use. The IMpb leverages features of the GS1-128 symbology to allow for the unique identification and tracking of domestic packages from induction to delivery. The GS1-128 barcode symbology is already a requirement for users of electronic confirmation services and eVS. Customers participating in these programs will not need to change the symbology of the barcode; however the elements within the barcode and layout will change.

There are several IMpb barcode variations for commercial and retail use that provide sufficient flexibility to accommodate the diverse mailing needs of customers. To improve routing, tracking, and service capabilities, mailers will be required to include the correct 5-digit routing code in the barcode on each commercially shipped package, either incorporated into a single concatenated barcode or as a separate postal routing barcode. The Postal Service will also require mailers to transmit the ZIP + 4 code information to the USPS via an electronic file. As an alternative mailers may include the destination address in the electronic file instead of the ZIP + 4 code.

Mailers who generate their own barcoded labels will benefit from the enhancements to the electronic files, allowing the support of the additional features incorporated into the IMpb. The new version 1.6 electronic file format includes expanded package identification code fields to accommodate up to a 34-digit barcode string, and requires fewer file types to support various combinations of products and services. With the full implementation of this final rule, mailers will be required to include the destination ZIP + 4 code (or destination address) in the electronic file for all records. This additional ZIP Code information will assist in the routing and tracking of our package products. An optional field for the delivery point code of the destination address has been added to the electronic file to provide additional information to improve service. A listing of electronic file formats is located in the addendum to Publication 91, Addendum for Intelligent Mail Package Barcode (IMpb) and 3-digit Service Type Code, available on the RIBBS® Web site at http://ribbs.usps.gov. File formats are also provided in the newly released, Publication 199, Implementation Guide to Intelligent Mail Package Barcode (IMpb) for Confirmation Services and Electronic Verification System (eVS) Mailers. Publication 199 is also available on the RIBBS Web site, and includes all information in the Publication 91 Addendum, but is more comprehensive. The Postal Service currently provides IMpb technical specifications in both publications, but expects to eliminate the Publication 91 Addendum at some point in the near future.

The data construct of the IMpb barcode differs from that of the current confirmation services barcode. The IMpb uses unique 3-digit service type codes to identify the exact product and extra service combinations, eliminating the need for separate barcodes and enabling more efficient package handling and delivery. Detailed specifications for IMpb barcodes are available in the “Barcode Data” section of the specification document, Barcode, Package, Intelligent Mail (USPS2000508) on RIBBS. A list of the 3-digit service type codes is available in Publication 199 and the addendum to Publication 91. Technical specifications may be modified using an alternative approval process authorized by the vice president, Product Information.

Mailers using IMpb can optionally increase package visibility by associating each package with the appropriate sack, or an approved equivalent container, which bears an accurately encoded Intelligent Mail tray label. Each sack or approved alternate container may then be electronically associated to a pallet (or equivalent container) that bears an accurately encoded Intelligent Mail container placard.

The Postal Service also plans to assist Merchandise Return Service (MRS) and Business Reply Mail (BRM) parcel mailers in developing processes capable of generating unique tracking barcodes for their labels, and to replace the nonbarcoded labels many currently use. The use of unique tracking barcodes will be optional for these mailers, but when used, these mailpieces will qualify for end-to-end tracking, including confirmation of delivery, at no additional charge.

The Postal Service has proposed creating two products from its existing Standard Mail parcels/not flat-machinable (NFMs) product. The two products proposed would be Standard Mail Fulfillment parcels and Standard Mail Marketing parcels. The Postal Service has also proposed to transfer all of its Standard Mail Fulfillment parcels (except nonprofit) to its competitive product line, where they would become a subcategory of the Parcel Select product. The Postal Service has obtained approval for this transfer, conditional on the January 22, 2012 price change. If this transfer occurs as planned those transferred parcels would become eligible for end-to-end tracking, including confirmation of delivery, at no cost, would be required to bear a unique tracking barcode no later than July 2, 2012; and would be required to bear an IMpb and to use version 1.6 of the electronic shipping services manifest files no later than January 7, 2013.

Comments

The Postal Service received three comments in response to the April 28, 2011 proposed rule, with some commenters addressing more than one issue. These comments are summarized as follows:

In general, commenters expressed support for the Postal Service's efforts to enhance its operational capability to track commercial parcels. Commenters were also generally in support of the proposal to provide end-to-end tracking, including confirmation of delivery, at no charge and a standardized service banner text.

Comment: One commenter recommends that the ZIP + 4 barcode construct be supported as an option for IMpb, prior to the implementation date, in order to assist mailers in meeting the January 7, 2013 requirement to place the ZIP + 4 code in the electronic shipping services manifest files.

Response: The ZIP + 4 barcode construct is currently supported and customers may use this construct to comply with the ZIP + 4 code requirement. However, the readability for this barcode is not yet optimal on our passive scanners and mechanized parcel sorters. For this reason the USPS encourages mailers to use available constructs that do not include the ZIP + 4 code. When using a barcode construct that includes the ZIP + 4 code, mailers shipping small packages must also ensure sufficient label space exists to print a longer barcode that meets specifications.

Comment: A commenter requested clarification on how the ZIP + 4 code requirement pertains to the Parcel Return Service (PRS) manifest. This commenter requests an explicit statement as to whether the ZIP + 4 code requirement would apply to PRS.

Response: The ZIP + 4 code requirement will not apply to PRS and will not be required in PRS manifests or the barcodes on PRS pieces. PRS pieces have a different processing model than other parcels. PRS pieces are addressed to unique ZIP Codes and are picked up at participating Post Offices, plants, or Network Distribution Centers.

Comment: Another commenter wished to confirm his understanding that mailers will have to provide the ZIP + 4 code or destination delivery address in the electronic shipping services manifest files by June 3, 2013 to obtain destination entry or presort pricing.

Response: This commenter is correct; mailers will be required to include the ZIP + 4 code or destination delivery address in the electronic manifest file to be eligible for destination entry or presort pricing. However, the effective date for this requirement has been changed to January 7, 2013.

Comment: A commenter asserted that full IMpb implementation cannot occur until the “Shipping Partner Events” are supported by the USPS product tracking system (PTS).

Response: The Postal Service understands the importance of supporting IMpb in the Shipping Partner Event files. On June 30, 2011, modifications were made to accommodate IMpb in the current version of the Shipping Partner Event file. To fully support IMpb, a new version of the Shipping Partner Event file and the corresponding Error/Warning file was implemented on August 28, 2011.

Comment: A commenter encouraged the USPS to enable version 1.6 of the electronic shipping services manifest files to accept legacy barcodes, because this would provide mailers an opportunity to work through transition issues prior to the implementation date.

Response: The Postal Service agrees and has received similar feedback from other mailers. In response, the Postal Service modified its systems on June 26, 2011 to accept the current USPS-approved barcode formats in the new electronic shipping services manifest files version 1.6.

Comment: Another commenter asked if mailers could obtain destination entry or presort pricing by using an IMpb and providing version 1.6 of the electronic shipping services manifest files, but without including the ZIP + 4 code or destination delivery address in the manifest.

Response: Until January 7, 2013, mailers who apply an IMpb, or a unique tracking barcode or extra services barcode to their parcels are eligible for destination entry or presort pricing. Mailers are not required to provide the ZIP + 4 code in the electronic file until January 7, 2013.

Comment: A commenter requested a summary of the changes required by January 22, 2012, and those required by June 4, 2012.

Response: On January 22, 2012, mailers will be required to apply a tracking or extra services barcode on all Parcel Select parcels and all other commercially shipped parcels (except Standard Mail) in order to receive presort or destination-entry pricing. Either an IMpb or one of the current USPS-approved unique tracking or extra services barcodes will fulfill this requirement. Mailers who are unable to modify their systems to apply tracking or extra services barcodes to their mailpieces will continue to receive presort or destination-entry pricing for parcels without barcodes until July 2, 2012. Effective July 2, 2012, the transition period for mailers to modify their systems will be over. To continue to receive Parcel Select or presort or destination-entry pricing, mailers must apply unique tracking or extra services barcodes to their parcels. Beginning on January 22, 2012, mailers using a PC Postage system must apply an IMpb to their parcels, use version 1.6 of the electronic shipping services manifest files, and include each destination ZIP + 4 code, or each destination delivery address in the file. To allow PC Postage mailers sufficient time to effect the necessary changes to their software and systems, the Postal Service will also provide an optional-use transitional period until July 2, 2012.

Comment: Another commenter asked if mailers are required to make any changes by June 3, 2013 if they are willing to forgo destination entry or presort pricing.

Response: Mailers (except mailers of Parcel Select parcels) who are willing to forgo presort or destination entry pricing will not be required to apply an IMpb to their parcels or use electronic shipping services manifest files version 1.6, even after January 7, 2013. All Parcel Select mailers will be required to use IMpb and version 1.6 of the electronic shipping services manifest file by January 7, 2013.

Comment: A commenter asked what type of barcode qualifies for Delivery Confirmation service at no charge as of January 22, 2012, and if mailers will be able to use the current USPS-approved Delivery Confirmation barcodes, with 2-digit Service Type IDs and unique serial numbers until June 3, 2013.

Response: All IMpb and unique tracking or Extra Services barcodes will qualify for end-to-end tracking, including confirmation of delivery, at no charge on all commercially shipped parcels (excluding Standard Mail and Package Services parcels) beginning on January 22, 2012. This includes parcels bearing the current USPS-approved barcodes with 2-digit service type codes and serial numbers that remain unique for 6 months. Mailers may use the current USPS-approved barcodes until January 7, 2013 to meet the barcode requirements to qualify for presort or destination entry pricing.

Comment: A commenter asked if electronic shipping services manifest files, for mailers using unique tracking barcodes, will be required on commercial parcels before June 3, 2013.

Response: To receive end-to-end tracking, including confirmation of delivery, at no charge, commercially shipped parcels bearing non-IMpb unique tracking barcodes or extra services barcodes must use either Version 1.3 or 1.4 of the electronic shipping services manifest files, or the new Version 1.6 file (or version 1.5 for existing customers using only this format). Mailers placing an IMpb on their parcels must use version 1.6 (or version 1.5 for existing customers using this format). Only programs that do not require a manifest file (such as MRS) will receive end-to-end tracking, including confirmation of delivery, at no charge without an electronic file.

Comment: A commenter asked if the required use of version 1.6 of the electronic shipping services manifest files by June 3, 2013 applies only to commercial parcels, and not to MRS. This commenter stated that permit holders never know when their customers may choose to use a MRS label.

Response: As is currently the case, MRS parcels bearing an IMpb will not be required to be accompanied by an electronic shipping service manifest file. However, when current (or future) programs or features require a manifest file, the electronic shipping services manifest file version 1.6 will be required. The Postal Service has also expressed its intent to assist Merchandise Return Service (MRS) and Business Reply Mail (BRM) parcel mailers in developing processes capable of generating unique tracking barcodes for their labels. Although the use of unique tracking barcodes will be optional for these mailers, the end-to-end tracking, including confirmation of delivery, at no additional charge should be a significant benefit to most mailers.

Comment: Another commenter asked if a mailer can apply an IMpb to their parcels without using either version 1.5 or 1.6 of the electronic shipping services manifest files.

Response: IMpb use requires version 1.5 or 1.6 of the electronic shipping services manifest files. Version 1.5 is no longer offered to new IMpb mailers, and is only available for mailers currently using this version. All new IMpb mailers must use version 1.6 of the electronic shipping services manifest files. The only exceptions for use of an electronic shipping services manifest files are for certain current (e.g. MRS) and future programs or products that do not require a manifest.

Comment: A commenter asked how the Postal Service will differentiate between postage paid and postage due returns.

Response: The Postal Service has developed a number of unique 3-digit service type codes. In addition to various other capabilities, these new codes offer the capability to distinguish postage paid pieces from postage due returns.

Comment: A commenter asked how the tracking of returns using Delivery Confirmation service will work, and if any of the parcel return processes will change as a result of these new standards.

Response: In accordance with the new scanning policies, all parcels will receive acceptance, enroute, and delivered event scans. These additional event scans will appear in the mailer's extract files; and mailers will be able to track items online without additional fees. The processes for parcel return will not change as a result of these standards.

Comment: A commenter asked if Parcel Post will be eligible for Delivery Confirmation service at no charge.

Response: Parcel Post is generally classified as a retail product, and as such, is not eligible for end-to-end tracking, including confirmation of delivery, at no charge. Commercially-entered Parcel Post pieces, defined as those bearing a permit imprint, are also not eligible for end-to-end tracking, including confirmation of delivery, at no charge.

Comment: A commenter asked if the First-Class Mail commercials parcels that have moved to First-Class Package Service within the competitive product line will require different service type codes, and if Standard Mail parcels that may move to Parcel Select within the competitive product line will require different service type codes.

Response: The Postal Service does not plan to introduce different service type codes for the new competitive First-Class Package Service parcels, but it will define new service type codes for Parcel Select Lightweight, if the transition from Standard Mail parcels to Parcel Select occurs as planned.

Comment: A commenter asked if MRS mailers will still be able to access delivery status data from the Track & Confirm page on the USPS.com Web site, and if a data file of Delivery Confirmation dates by unique tracking number would be provided.

Response: Mailers will continue to have the ability to access delivery status information on USPS.com, and customer extract files will be provided for certified MRS customers who apply an IMpb or unique tracking or extra service barcodes to their MRS labels.

Comment: Another commenter asked if service type code 396 (which corresponds to no extra service) will be used for pre-printed MRS labels (since unique serial numbers cannot be used).

Response: Unique serial numbers will be required for IMpb and tracking or extra services barcodes, including MRS labels. It is possible to print unique serial numbers for pre-printed labels; many MRS and PRS customers do so currently. Service type code 396 may be used; but unique serial numbers are still required.

Comment: A commenter stated that required IMpb use by June 3, 2013 will negatively impact current Express Mail and Priority Mail volume, particularly those pieces sent by small and medium size mailers (many of which are postage meter customers). This commenter states that if the Postal Service adopts these new standards, postage meter customers will be placed in a distinct competitive disadvantage. The commenter opines that changes can be made to the proposed standards that would enable postage meter customers to continue to use the USPS.

Response: The Postal Service believes these new standards, including required use of an IMpb by January 7, 2013, to be equitable to all postage providers and that they do not favor server-based over distributed or client-based providers. This revision provides for a substantial implementation period. Once postage meter providers change their systems to enable the generation and manifesting of IMpb tracking and extra services barcodes, small and medium sized mailers using those systems will have the ability to create an IMpb and transmit electronic shipping services manifest files version 1.6 to the USPS. Those mailers who do not require tracking or extra services and do not wish to claim presort or destination entry pricing are not required to make any changes. In the proposed rule (75 FR 23749-23755) published April 28, 2011, the Postal Service stated “in consideration of the small and medium-size mailers primarily using postage meters, the Postal Service will consult with the meter and PC Postage industry to collaboratively agree on a date for these mailers to be required to use the IMpb.” The Postal Service will consider this comment during future consultations with the postage meter industry. The Postal Service also considers users of PC Postage stamp products to be in this mailer category and looks forward to their participation in this consultation process.

Approval and Review

The standards described in this final rule Federal Register are subject to approval by the Board of Governors and to regulatory review by the Postal Regulatory Commission (PRC). The Postal Service will inform the mailing community through a DMM Advisory notice at the conclusion of this approval and review process.

The Postal Service hereby adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C 301-307; 18 U.S.C. 1692-1737; 39 U.S.C. 101, 401, 403, 404, 414, 416, 3001-3011, 3201-3219, 3403-3406, 3621, 3622, 3626, 3632, 3633 and 5001.

2. Revise the following sections of Mailing Standards of the United States Postal Service, Domestic Mail Manual (DMM) as follows:

Mailing Standards of the United States Postal Service, Domestic Mail Manual (DMM)

* * * * *

200 Commercial Letters and Cards

* * * * *

210 Express Mail

213 Prices and Eligibility

* * * * *

3.0 Basic Standards for Express Mail

* * * * *

[Renumber current 3.2 as 3.3 and add new 3.2 as follows:]

3.2 IMpb Standards

Commercial Express Mail with postage paid through a PC Postage system must bear an Intelligent Mail package barcode (IMpb) prepared under 708.5.0. Effective January 7, 2013, all commercial Express Mail pieces (except for pieces paying postage through EMCA) must bear an IMpb.

* * * * *

220 Priority Mail

223 Prices and Eligibility

* * * * *

3.0 Basic Standards for Priority Mail

* * * * *

[Renumber current 3.3 and 3.4 as 3.4 and 3.5 and add new 3.3 as follows:]

3.3 IMpb Standards

Priority Mail pieces (except Critical Mail pieces without an extra service) with postage paid through a PC Postage system must bear an Intelligent Mail package barcode prepared under 708.5.0.

* * * * *

300 Commercial Flats

* * * * *

310 Express Mail

313 Prices and Eligibility

* * * * *

3.0 Basic Standards for Express Mail

* * * * *

[Renumber current 3.2 as 3.3 and add new 3.2 as follows:]

3.3 IMpb Standards

Commercial Express Mail with postage paid through a PC Postage system must bear an Intelligent Mail package barcode (IMpb) prepared under 708.5.0. Effective January 7, 2013, all commercial Express Mail pieces (except for pieces paying postage through EMCA) must bear an IMpb.

* * * * *

320 Priority Mail

323 Prices and Eligibility

* * * * *

3.0 Basic Standards for Priority Mail

* * * * *

[Renumber current 3.3 and 3.4 as 3.4 and 3.5 and add new 3.3 as follows:]

3.3 IMpb Standards

Priority Mail pieces (except Critical Mail pieces without an extra service) with postage paid through a PC Postage system must bear an Intelligent Mail package barcode prepared under 708.5.0.

* * * * *

400 Commercial Parcels

* * * * *

410 Express Mail

413 Prices and Eligibility

* * * * *

3.0 Basic Standards for Express Mail

* * * * *

[Renumber current 3.2 as 3.3 and add new 3.2 as follows:]

3.3 IMpb Standards

Commercial Express Mail with postage paid through a PC Postage system must bear an Intelligent Mail package barcode (IMpb) prepared under 708.5.0. Effective January 7, 2013, commercial Express Mail pieces (except for pieces paying postage through EMCA) must bear an IMpb.

* * * * *

420 Priority Mail

423 Prices and Eligibility

* * * * *

3.0 Basic Standards for Priority Mail

* * * * *

[Renumber current 3.2 and 3.3 as 3.3 and 3.4 and add new 3.2 as follows:]

3.2 IMpb Standards

Priority Mail parcels with postage paid through a PC Postage system must bear an Intelligent Mail package barcode (IMpb) prepared under 708.5.0.

* * * * *

430 First-Class Package Service Parcels

433 Prices and Eligibility

1.0 Prices and Fees for First-Class Package Service Parcels

* * * * *

[Revise title of 1.3 as follows:]

1.3 Commercial Base Prices

[Revise the introductory text of 1.3 as follows:]

For prices, see Notice 123-Price List. Commercial base parcels may be presorted or nonpresorted. Presorted parcels must include a unique Intelligent Mail package barcode or extra services barcode, including a postal routing code, on each parcel. Effective January 7, 2013, presorted parcels must include a unique Intelligent Mail package barcode with a postal routing code on each parcel. Postage for presorted parcels must be paid under 434. Nonpresorted First-Class Package Service parcels mailed under the following conditions are eligible for single-piece commercial base parcel prices:

* * * * *

1.4 Commercial Plus Prices

For prices, see Notice 123-Price List. First-Class Package Service machinable parcels less than 16 ounces and Merchandise Return Service parcels are eligible for commercial plus prices for customers that:

* * * * *

[Add a new 1.4e as follows:]

e. Include a unique Intelligent Mail package barcode or extra services barcode, including a postal routing code, on each presorted parcel. Effective January 7, 2013, parcels must include a unique Intelligent Mail package barcode with a postal routing code.

1.5 Surcharge

[Revise 1.5 as follows:]

A surcharge applies for parcels with the following characteristics:

a. Unless prepared in 5-digit/scheme containers, presorted parcels weighing less than 2 ounces or that are irregularly shaped, such as rolls, tubes, and triangles.

b. Nonpresorted parcels (except those paid with PC Postage; see 3.7) that do not bear a unique Intelligent Mail package barcode or extra services barcode, including a postal routing code, prepared under 708.5.0. Effective January 7, 2013, parcels must include a unique Intelligent Mail package barcode with a postal routing code to avoid a surcharge.

* * * * *

3.0 Basic Standards for First-Class Package Service Parcels

* * * * *

[Revise title of 3.3 as follows:]

3.3 Additional Basic Standards

All presorted First-Class Package Service parcels must:

* * * * *

[Add a new 3.3f as follows:]

f. Bear a unique Intelligent Mail package barcode or extra services barcode, including a postal routing code, prepared under 708.5.0. Effective January 7, 2013, must include a unique Intelligent Mail package barcode with a postal routing code.

* * * * *

[Renumber current 3.6 as 3.7 and add new 3.6 as follows:]

3.6 IMpb Standards

First Class Package Service parcels with postage paid through a PC Postage system must bear an Intelligent Mail package barcode prepared under 708.5.0.

* * * * *

450 Parcel Select

453 Prices and Eligibility

* * * * *

3.0 Price Eligibility for Parcel Select and Parcel Select Regional Ground

3.1 Destination Entry Price Eligibility

* * * * *

3.1.2 Basic Standards

For Parcel Select destination entry, pieces must meet the applicable standards in 455.4.0 and the following criteria:

* * * * *

[Add a new 3.1.2f as follows:]

f. Pieces must bear a unique Intelligent Mail package barcode or extra services barcode, including a postal routing code, prepared under 708.5.0. Effective January 7, 2013, parcels must include a unique Intelligent Mail package barcode with a postal routing code on each parcel.

* * * * *

3.2 Parcel Select NDC and ONDC Presort Price Eligibility

[Revise 3.2 by adding two new last sentences as follows:]

* * * Parcel Select NDC and ONDC Presort pieces must bear a unique Intelligent Mail package barcode or extra services barcode, including a postal routing code, prepared under 708.5.0. Effective January 7, 2013, parcels must include a unique Intelligent Mail package barcode with a postal routing code on each parcel.

3.3 Parcel Select Barcoded Nonpresort Price Eligibility

[Revise 3.3 as follows:]

Pieces mailed at Parcel Select Barcoded Nonpresort prices must be machinable parcels. Each parcel must bear a unique Intelligent Mail package barcode or extra services barcode, including a postal routing code, prepared under 708.5.0. There is a minimum volume of 50 pieces per mailing for parcels mailed at the Parcel Select Barcoded Nonpresort price, except for parcels with USPS-approved PC Postage, for which there is no minimum volume per mailing. Effective January 7, 2013, parcels must include a unique Intelligent Mail package barcode with a postal routing code on each parcel.

[Delete items 3.3a through 3c, and exhibit 3.3, in their entirety.]

3.4 Parcel Select Regional Ground

* * * * *

3.4.1 General Eligibility

Parcel Select Regional Ground prices are available for machinable parcels (see 401.1.5), measure .35 cubic foot or less and weigh 5 pounds or less when customers meet the following requirements:

* * * * *

[Revise 3.4.1d as follows:]

Pieces must bear a unique Intelligent Mail package barcode or extra services barcode, including a postal routing code, prepared under 708.5.0. Effective January 7, 2013, parcels must include a unique Intelligent Mail package barcode with a postal routing code on each parcel.

* * * * *

460 Bound Printed Matter

463 Prices and Eligibility

* * * * *

4.0 Price Eligibility for Bound Printed Matter Parcels

4.1 Price Eligibility

BPM prices are based on the weight of a single addressed piece or 1 pound, whichever is higher, and the zone (where applicable) to which the piece is addressed. Price categories are as follows:

* * * * *

[Add two new last sentences to 4.1b as follows:]

b. * * * Each parcel must bear a unique Intelligent Mail package barcode or extra services barcode, including a postal routing code, prepared under 708.5.0. Effective January 7, 2013, parcels must include a unique Intelligent Mail package barcode with a postal routing code.

[Add two new last sentences to 4.1c as follows:]

c. * * * Each parcel must bear a unique Intelligent Mail package barcode or extra services barcode, including a postal routing code, prepared under 708.5.0. Effective January 7, 2013, parcels must include a unique Intelligent Mail package barcode with a postal routing code.

* * * * *

466 Enter and Deposit

* * * * *

3.0 Destination Entry

3.1 General

[Revise the text of 3.1 as follows:]

Destination entry prices apply to Presorted and Carrier Route Bound Printed Matter (BPM) that is deposited at a destination network distribution center (DNDC), destination sectional center facility (DSCF), or destination delivery unit (DDU) as specified below. Each piece can claim only one destination entry price; an individual pallet may contain pieces claimed at different destination entry prices. Each BPM parcel entered at a destination entry price must bear a unique Intelligent Mail package barcode or extra services barcode, including a postal routing code, prepared under 708.5.0. Effective January 7, 2013, parcels claiming destination entry prices must include a unique Intelligent Mail package barcode with a postal routing code on each parcel.

* * * * *

470 Media Mail and Library Mail

473 Prices and Eligibility

* * * * *

6.0 Price Eligibility for Media Mail and Library Mail Parcels

* * * * *

6.2 Price Eligibility Standards

[Revise 3.2 by adding a new second and third sentence as follows:]

* * * Each piece must bear a unique Intelligent Mail package barcode or extra services barcode, including a postal routing code, prepared under 708.5.0. Effective January 7, 2013, presorted parcels must include a unique Intelligent Mail package barcode with a postal routing code. * * *

* * * * *

6.3 Price Categories for Media Mail and Library Mail

Media Mail and Library Mail prices are based on the weight of the piece without regard to zone. The price categories and discounts are as follows:

* * * * *

[Add a new 6.3d as follows:]

d. Presorted Media Mail and Library Mail parcels with postage paid through a PC Postage system must bear an Intelligent Mail package barcode prepared under 708.5.0.

* * * * *

500 Additional Mailing Services

503 Extra Services

* * * * *

2.0 Registered Mail

* * * * *

2.4 Mailing

* * * * *

2.4.5 Privately Printed Label 200

[Revise 2.4.5 by adding a new third sentence as follows:]

* * * Effective January 7, 2013, privately printed labels must include an Intelligent Mail package barcode prepared under 708.5.0, except that labels must retain the human-readable text, label design elements and color consistent with Label 200. * * *

* * * * *

3.0 Certified Mail

* * * * *

3.3 Mailing

* * * * *

3.3.4 Privately Printed Form 3800

[Revise 3.3.4 by adding a new third sentence as follows:]

* * * Effective January 7, 2013, privately printed forms must include an Intelligent Mail package barcode prepared under 708.5.0, except that forms must retain the human-readable text, label design elements and color consistent with USPS Form 3800. * * *

* * * * *

4.0 Insured Mail

* * * * *

4.3 Mailing

* * * * *

4.3.4 Privately Printed Form 3813-P

[Revise 4.3.4 by adding new third and forth sentences as follows:]

* * * Effective January 7, 2013, privately printed forms must include an Intelligent Mail package barcode prepared under 708.5.0. Unless printing integrated forms under 4.3.5, forms must retain the label design elements and color consistent with USPS Form 3813-P. * * *

4.3.5 Integrated Barcodes

The following options are available for mailers who print their own labels:

* * * * *

[Resequence the current 4.3.5c as the new 4.3.5e and add a new 4.3.5c and 5d as follows:]

c. Intelligent Mail package barcodes placed on insured packages with indemnity coverage of $200.00 or less must bear a human-readable service banner with the text “USPS Tracking #” printed in accordance with Exhibit 708.5.1.4. Other approved extra services barcodes may bear the appropriate human-readable service banner text “USPS Delivery Confirmation,” prepared under 708.5.0.

d. Intelligent Mail package barcodes placed on insured packages with indemnity coverage greater than $200.00 and with electronic Signature Confirmation service must bear a human-readable service banner with the text “USPS Signature Tracking #” printed in accordance with Exhibit 708.5.1.4. Other approved extra services barcodes may bear a human-readable service banner with the text “USPS Insured,” or “USPS Signature Confirmation,” prepared under 708.5.0.

[Add a new last sentence to the introductory paragraph of resequenced 4.3.5e as follows:]

e. * * * The following standards also apply:

[Delete resequenced 4.3.5e3 in its entirety and revise resequenced e1 and e2 as follows:]

1. Mailers may purchase insurance online for indemnity coverage of $200.00 or less with electronic option Delivery Confirmation service. Prepare barcodes under 4.3.5c.

2. Mailers may purchase insurance online for indemnity coverage of more than $200, up to $500 (up to $5,000 online through Click-n-Ship), with electronic option Delivery Confirmation service or Signature Confirmation service. In both cases, prepare barcodes under 4.3.5d.

* * * * *

9.0 Return Receipt for Merchandise

* * * * *

9.3 Mailing

* * * * *

9.3.5 Privately Printed Form 3804

[Revise 9.3.5 by adding a new third sentence as follows:]

* * * Effective January 7, 2013, privately printed forms must include an Intelligent Mail package barcode prepared under 9.3.6 and 708.5.0, and must retain the label design elements and color consistent with USPS Form 3804. * * *

* * * * *

[Renumber current 9.3.6 and 9.3.7 as the new 9.3.7 and 9.3.8 and add a new 9.3.6 as follows:]

9.3.6 Barcodes

Barcodes printed by mailers must meet the following standards:

a. Intelligent Mail package barcodes and other approved extra services barcodes applied by mailers must be prepared in accordance with 708.5.0.

b. Intelligent Mail package barcodes must include the human-readable service banner with the text “USPS Signature Tracking #” printed in accordance with Exhibit 708.5.1.4.

c. Other approved extra services barcodes may bear a human-readable service banner with the text “Return Receipt for Merchandise” prepared in accordance with 708.5.0.

* * * * *

10.0 Delivery Confirmation

* * * * *

10.3 Labels

10.3.1 Types of Labels

Mailers must use one of the label options shown below (for additional information see Publication 91, Confirmation Services Technical Guide):

* * * * *

[Revise 10.3.1b as follows:]

b. Label 314 is available to electronic option mailers. Effective January 7, 2013, labels must include an Intelligent Mail package barcode prepared under 708.5.0.

* * * * *

[Revise the first sentence and add a new second sentence for 10.3.1c as follows:]

c. Privately printed barcoded labels must meet the requirements in 10.3 and 10.4. Effective January 7, 2013, privately printed labels must include an Intelligent Mail package barcode prepared under 10.4 and 708.5.0. * * *

[Delete Exhibit 10.3.1c, Privately Printed Label, in its entirety.]

* * * * *

10.4 Barcodes

* * * * *

10.4.3 Printing

* * * Labels used for Delivery Confirmation service must meet these additional specifications:

[Revise 10.4.3a as follows:]

a. Intelligent Mail package barcodes must bear a human-readable service banner with the text “USPS Tracking #” printed in accordance with Exhibit 708.5.1.4. Other approved extra services barcodes may bear a human-readable service banner with the text “USPS Delivery Confirmation,” prepared in accordance with 708.5.0

* * * * *

11.0 Signature Confirmation

* * * * *

11.3 Labels

11.3.1 Types of Labels

Mailers must use one of the label options shown below (for additional information see Publication 91, Confirmation Services Technical Guide):

* * * * *

[Revise 11.3.1b as follows:]

b. Label 315 is available to electronic option mailers. Effective January 7, 2013, labels must include an Intelligent Mail package barcode prepared under 708.5.0.

* * * * *

[Revise the first sentence and add a new second sentence for 10.3.1c as follows:]

c. Privately printed barcoded labels must meet the requirements in 11.3 and 11.4. Effective January 7, 2013, privately printed labels must include an Intelligent Mail package barcode prepared under 11.4 and 708.5.0. * * *

[Delete Exhibit 11.3.1c, Privately Printed Label, in its entirety.]

* * * * *

11.4 Barcodes

* * * * *

11.4.3 Printing

* * * Labels used for Signature Confirmation service must meet these additional specifications:

[Revise 10.4.3a as follows:]

a. Intelligent Mail package barcodes must bear a human-readable service banner with the text “USPS Signature Tracking #” printed in accordance with Exhibit 708.5.1.4. Other approved extra services barcodes may bear a human-readable service banner with the text “USPS Signature Confirmation” prepared in accordance with 708.5.0

* * * * *

12.0 Collect on Delivery (COD)

* * * * *

12.3 Forms

* * * * *

12.3.2 Privately Printed Form 3816-AS

[Revise 12.3.2 by adding a new third sentence as follows:]

* * * Effective January 7, 2013, privately printed forms must include an Intelligent Mail package barcode prepared under 9.3.6 and 708.5.0, and must retain the human-readable text, label design elements and color consistent with USPS Form 3816-AS. * * *

* * * * *

507 Mailer Services

* * * * *

9.0 Business Reply Mail

* * * * *

9.4 General Information

* * * * *

9.4.3 Services

[Revise 9.4.3 as follows:]

No extra services are permitted with BRM, except for BRM parcels bearing a USPS-approved Delivery Confirmation service label, or BRM parcels bearing an Intelligent Mail package barcode including Delivery Confirmation service.

700 Special Standards

* * * * *

705 Advanced Preparation and Special Postage Payment Systems

* * * * *

7.0 Combining Package Services and Parcel Select Parcels for Destination Entry

7.1 Combining Parcels—DSCF and DDU Entry

7.1.1 Qualification

[Revise the last sentence of 7.1.1 as follows:]

* * * Parcels claiming destination entry pricing must bear a unique Intelligent Mail package barcode or extra services barcode, including a postal routing code, prepared under 708.5.0. Effective January 7, 2013, parcels claiming destination entry prices must include a unique Intelligent Mail package barcode with a postal routing code.

* * * * *

708 Technical Specifications

* * * * *

5.0 Standards for Package and Extra Service Barcodes

5.1 Intelligent Mail Package Barcode

* * * * *

5.1.4 Physical Barcode Requirements

[Revise the introductory paragraph of 5.1.4 as follows:]

Detailed physical specifications for barcodes are provided in the resource documents, available on RIBBS at http://ribbs.usps.gov/. Physical barcode requirements are as follows:

* * * * *

[Revise 5.1.4d as follows:]

d. Barcode Height: unless allowed by exception, the minimum height must be at least 0.75 inch.

* * * * *

g. Human-Readable Representation of Barcode Data and Service Banner: text must be printed in accordance with Exhibit 5.1.4 and as follows:

* * * * *

[Revise 5.1.4g2 as follows:]

2. Service Banners must include the human-readable text “USPS Signature Tracking #” (or “USPS Signature Tracking Number”) for mailpieces requiring a signature at delivery and “USPS Tracking #” (or “USPS Tracking Number”) for all other mailpieces. Service Banner text shown in Exhibit 5.1.4 is an example. See Appendix I in Publication 199 or Publication 91 (addendum appendix H) at http://ribbs.usps.gov/ for additional information.

* * * * *

[To reflect new barcode format, replace current Exhibit 5.1.4 with a new Exhibit 5.1.4 as follows:]

Exhibit 5.1.4 Barcode Specifications

[Placeholder for revised barcode exhibit.]

* * * * *

5.1.7 Electronic File

* * * Electronic files must include the following elements:

* * * * *

[Add a new 5.1.7d and 5.1.7e as follows:]

d. Effective January 7, 2013, mailers of commercial parcels, except Standard Mail parcels and parcels bearing PC Postage, claiming presort or destination entry pricing must use version 1.6 (or subsequent versions) of the electronic shipping services manifest files including each destination ZIP + 4 code, or each destination delivery address.

e. Mailers using a PC Postage system must use version 1.6 (or subsequent versions) of the electronic shipping services manifest files, including each destination ZIP + 4 code, or each destination delivery address.

[Add a new 5.18 as follows:]

5.18 Alternate Approval

Labels not meeting IMpb specifications or other label element standards, but are still able to demonstrate acceptable functionality within USPS processes, may be allowed using an alternative approval process authorized by the vice president, Product Information.

* * * * *

5.2 Other Package Barcodes

* * * * *

[Renumber current 5.2.11 and 5.2.12 as the new 5.2.12 and 5.2.13, and add a new 5.2.11 as follows:]

5.2.10 Service Banner Text

Except with Certified Mail, Registered Mail, Adult Signature, Parcel Return Service, and Express Mail or Priority Mail Open and Distribute services, mailers preparing extra service barcodes under 5.2 may optionally use a “USPS Tracking #” human-readable service banner text above the barcode on packages not requiring a signature at delivery, and a “USPS Signature Tracking #” service banner text above the barcode on packages where a signature is required at delivery.

* * * * *

We will publish an appropriate amendment to 39 CFR part 111 to reflect these changes.

Stanley F. Mires,
Attorney, Legal Policy & Legislative Advice.

[FR Doc. 2011-24705 Filed 9-26-11; 8:45 am]

BILLING CODE 7710-12-P